ENVIRONMENTAL PROTECTION AGENCY

[EPA-HQ-OPP-2014-0848; FRL-9919-89]

Potassium Chloride; Receipt of Application for Emergency Exemption; Solicitation of Public Comment

AGENCY: Environmental Protection Agency (EPA).

ACTION: Notice.

SUMMARY: EPA has received a quarantine exemption request from the Minnesota Department of Agriculture to use the chemical potassium chloride to treat Christmas Lake and Lake Independence in Hennepin County, Minnesota to control zebra mussels and quagga mussels. The applicant proposes the use of a new chemical which has not been registered by EPA. EPA is soliciting public comments about this notice and treatment program.

DATES: Comments must be received on or before December 26, 2014.

ADDRESSES: Submit your comments, identified by docket identification (ID) number EPA-HQ-OPP-2014-0848, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide(s) discussed in this document, compared to the general population.

II. What action is the Agency taking?

Under section 18 of the Federal Insecticide, Fungicide, and Rodenticide Act (FIFRA) (7 U.S.C. 136p), at the discretion of the EPA Administrator, a Federal or State agency may be exempted from any provision of FIFRA if the EPA Administrator determines that emergency conditions exist which require the exemption. The Minnesota Department of Agriculture has requested the EPA Administrator to issue a quarantine exemption for the use of potassium chloride (Chemical Abstracts Service Registry Number (CAS No.) 7447-40-7) to treat Christmas Lake and Lake Independence to control zebra mussels (Dreissena polymorpha) and quagga mussels (Dreissena bugensis). Information in accordance with 40 CFR part 166 was submitted as part of this request.

As part of this request, the applicant asserts that zebra and quagga mussels need to be eradicated in these bodies of water to prevent the establishment and spread of this aquatic invasive species. Zebra and quagga mussels have a variety of detrimental environmental and recreational impacts. Without treatment it is likely that zebra and quagga mussels will establish a reproducing, self-sustaining population in both lakes, which would, in turn, serve as another source population and possibly contribute to the infestation of other area lakes. This chemical provides the best efficacy for the desired result with the best economic and environmental feasibility and least impact to human health and the environment.

The applicant proposes to apply an initial dose of approximately 1,700 lbs of granular potassium chloride, formulated as muriate of potash, mixed with water to form a slurry, to each treatment area. The chemical will be applied to the surface water or injected below the surface of the ice using a spray wand. Additional applications may be required to achieve and maintain the desired 100 parts per million (ppm) potassium concentration. The treatment areas are within Christmas Lake and Lake Independence in Hennepin County, MN.

This notice does not constitute a decision by EPA on the application itself. The regulations governing FIFRA section 18 require publication of a notice of receipt of an application for a quarantine exemption proposing use of a new chemical (i.e., an active ingredient) which has not been registered by EPA. The Agency will review and consider all comments received regarding the Minnesota Department of Agriculture's treatment program.

Authority: 7 U.S.C. 136 et seq.

Dated: November 25, 2014.
Susan Lewis,
Director, Registration Division, Office of Pesticide Programs.

[FR Doc. 2014-28703 Filed 12-9-14; 8:45 am]

BILLING CODE 6560-50-P